DEPARTMENT OF DEFENSE

Office of the Secretary

Publication of Housing Price Inflation Adjustment

AGENCY: Office of the Under Secretary (Personnel and Readiness), DoD.

ACTION: Notice.

SUMMARY: The Servicemembers Civil Relief Act prohibits a landlord from evicting a Service member (or the Service member's family) from a residence during a period of military service except by court order. The law as originally passed by Congress applied to dwellings with monthly rents of $2,400 or less. The law requires the Department of Defense to adjust this amount annually to reflect inflation and to publish the new amount in the Federal Register.

DATES: Effective Date: January 1, 2015.

FOR FURTHER INFORMATION CONTACT: Lt Col Ryan Oakley, Office of the Under Secretary of Defense for Personnel and Readiness, (703) 571-9301.

SUPPLEMENTARY INFORMATION: We have applied the inflation index required by the statute. The maximum monthly rental amount for 50 U.S.C. App. section 531 (a)(1)(A)(ii) as of January 1, 2015, will be $3,329.84.

Dated: January 23, 2015.
Aaron Siegel,
Alternate OSD Federal Register Liaison Officer, Department of Defense.

[FR Doc. 2015-01568 Filed 1-27-15; 8:45 am]

BILLING CODE 5001-06-P